INTERNATIONAL TRADE COMMISSION

[Investigation No. 337-TA-762]

Certain Strollers and Playards; Decision Not To Review an Initial Determination Terminating the Investigation on the Basis of a Settlement Agreement

AGENCY: U.S. International Trade Commission.

ACTION: Notice.

SUMMARY: Notice is hereby given that the U.S. International Trade Commission has determined not to review the presiding administrative law judge's initial determination (“ID”) (Order No. 11) granting a joint motion to terminate the above-captioned investigation on the basis of a settlement agreement.

FOR FURTHER INFORMATION CONTACT: Sidney A. Rosenzweig, Office of the General Counsel, U.S. International Trade Commission, 500 E Street SW., Washington, DC 20436, telephone (202) 708-2532. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on March 7, 2011, based on a complaint filed by Graco Children's Products Inc. of Atlanta, Georgia (“Graco”). 76 FR 12368 (Mar. 7, 2011). The complaint named as the sole proposed respondent Baby Trend, Inc. of Ontario, California (“Baby Trend”), and alleged a violation of section 337 in the importation, sale for importation, and sale within the United States after importation of certain strollers and playards by reason of the infringement of certain claims of U.S. Patent Nos. 6,669,225; 7,044,497; 7,188,858; 7,404,569; and 6,510,570.

On January 6, 2012, Graco and Baby Trend jointly moved to terminate the investigation in its entirety on the basis of a settlement agreement. On January 18, 2012, the ALJ granted the motion as an ID. Order No. 11 at 2-3.

No petitions for review of the ID were filed. The Commission has determined not to review the ID.

The authority for the Commission's determination is contained in section 337 of the Tariff Act of 1930, as amended (19 U.S.C. 1337), and in sections 210.21 and 210.42 of the Commission's Rules of Practice and Procedure (19 CFR 210.21, 210.42).

Issued: February 7, 2012.
By order of the Commission.
James R. Holbein,
Secretary to the Commission.

[FR Doc. 2012-3212 Filed 2-10-12; 8:45 am]

BILLING CODE 7020-02-P